OFFICE OF PERSONNEL MANAGEMENT

Excepted Service

AGENCY: Office of Personnel Management (OPM).

ACTION: Notice.

SUMMARY: This notice identifies Schedule A, B, and C appointing authorities applicable to a single agency that were established or revoked from April 1, 2019 to April 30, 2019.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during April 2019.

Schedule B

No Schedule B Authorities to report during April 2019.

Schedule C

The following Schedule C appointing authorities were approved during April 2019.

Agency name | Organization name | Position title | Authorization No. | Effective date
DEPARTMENT OF AGRICULTURE | Office of Animal and Plant Health Inspection Service | Senior Advisor | DA190083 | 04/04/2019
| Farm Service Agency | State Executive Director, Idaho | DA190086 | 04/09/2019
|  | State Executive Director—Washington | DA190105 | 04/24/2019
| Office of the Assistant Secretary for Congressional Relations | Legislative Analyst (2) | DA190088 DA190069 | 04/04/2019 04/12/2019
| Office of the Assistant to the Secretary for Rural Development | Confidential Assistant | DA190114 | 04/24/2019
| Office of the Secretary | Senior Advisor | DA190108 | 04/05/2019
| Rural Housing Service | State Director—Florida | DA190056 | 04/02/2019
|  | Chief of Staff | DA190124 | 04/23/2019
|  | State Director—New Jersey | DA180116 | 04/08/2019
|  | Chief of Staff | DA190116 | 04/12/2019
APPALACHIAN REGIONAL COMMISSION | Appalachian Regional Commission | Speechwriter | AP190001 | 04/04/2019
DEPARTMENT OF COMMERCE | Office of General Counsel | Special Advisor | DC190072 | 04/12/2019
| Office of Policy and Strategic Planning | Deputy Director, Office of Policy and Strategic Planning | DC190073 | 04/11/2019
| Office of Public Affairs | Deputy Director of Public Affairs and Press Secretary | DC190064 | 04/16/2019
| Office of the Assistant Secretary for Economic Development | Special Advisor for External Affairs | DC190061 | 04/11/2019
| Office of the Director | Director of Strategic Initiatives | DC190067 | 04/25/2019
| Patent and Trademark Office | Special Assistant | DC190053 | 04/16/2019
CONSUMER PRODUCT SAFETY COMMISSION | Office of Communications | Supervisory Public Affairs Specialist | PS190003 | 04/03/2019
COUNCIL ON ENVIRONMENTAL QUALITY | Council on Environmental Quality | Associate Director for Natural Resources | EQ190001 | 04/16/2019
DEPARTMENT OF DEFENSE | Office of the Assistant Secretary of Defense (Legislative Affairs) | Special Assistant | DD190071 | 04/04/2019
| Washington Headquarters Services | Defense Fellow | DD190074 | 04/04/2019
| Office of the Under Secretary of Defense (Policy) | Special Assistant | DD190078 | 04/23/2019
| Office of the Deputy Under Secretary for Policy | Special Assistant | DD190130 | 04/23/2019
DEPARTMENT OF THE ARMY | Office Assistant Secretary Army (Acquisition, Logistics and Technology) | Special Assistant (Strategy and Acquisition Reform) | DW190032 | 04/05/2019
DEPARTMENT OF EDUCATION | Office for Civil Rights | Attorney Advisor | DB190073 | 04/04/2019
| Office of Communications and Outreach | Special Assistant | DB190076 | 04/05/2019
|  | Director of Outreach | DB190077 | 04/08/2019
| Office of Planning, Evaluation and Policy Development | Special Assistant | DB190060 | 04/08/2019
| Office of the Secretary | Special Assistant (Supervisory) | DB190062 | 04/08/2019
DEPARTMENT OF ENERGY | Office of the Assistant Secretary for Congressional and Intergovernmental Affairs | Special Assistant | DE190083 | 04/24/2019
| Office of the Assistant Secretary for Electricity Delivery and Energy Reliability | Senior Advisor | DE190085 | 04/08/2019
| Office of the Assistant Secretary for Nuclear Energy | Special Assistant | DE190090 | 04/23/2019
| Office of General Counsel | Senior Oversight Advisor | DE190078 | 04/04/2019
| Office of Management | Special Assistant | DE190082 | 04/24/2019
| Office of Policy | Principal Deputy Director | DE190118 | 04/25/2019
| Office of Public Affairs | Deputy Creative Director | DE190069 | 04/05/2019
| Office of Science | Senior Advisor | DE190084 | 04/08/2019
| Office of the Chief Financial Officer | Chief of Staff | DE190065 | 04/04/2019
| Office of the Secretary | White House Liaison | DE190081 | 04/08/2019
| Under Secretary of Energy | Special Assistant | DE190089 | 04/23/2019
ENVIRONMENTAL PROTECTION AGENCY | Environmental Protection Agency | Special Assistant | EP190066 | 04/09/2019
| Office of Mission Support | Chief Sustainability Officer | EP190058 | 04/04/2019
|  | Associate Deputy Assistant Administrator for the Office of Mission Support | EP190067 | 04/29/2019
| Office of Public Engagement and Environmental Education | Special Advisor for Public Engagement | EP190055 | 04/08/2019
| Office of the Administrator | Senior Advisor for Oil and Gas, Regional Management and State Affairs | EP190057 | 04/23/2019
|  | Advance Associate | EP190074 | 04/23/2019
| Office of the Associate Administrator for Congressional and Intergovernmental Relations | Special Advisor for House Relations | EP190050 | 04/04/2019
|  | Special Assistant (2) | EP190062 EP190064 | 04/08/2019 04/09/2019
|  | Deputy Associate Administrator for the Office of Congressional and Intergovernmental Relations | EP190070 | 04/16/2019
FEDERAL HOUSING FINANCE AGENCY | Office of Director | Director of External Relations | HA190001 | 04/23/2019
GENERAL SERVICES ADMINISTRATION | Office of the Administrator | Confidential Assistant | GS190019 | 04/04/2019
| Office of the National Capital Region | Special Assistant | GS190027 | 04/17/2019
DEPARTMENT OF HEALTH AND HUMAN SERVICES | Office of the Assistant Secretary for Financial Resources | Special Assistant | DH190069 | 04/04/2019
| Office of the Secretary | Advisor | DH190089 | 04/05/2019
| Office of the Assistant Secretary for Financial Resources | Deputy Assistant Secretary, Congressional Relations | DH190090 | 04/12/2019
| Office of the Agency for Healthcare Research and Quality | Advisor | DH190094 | 04/12/2019
| Office of the Administration for Children and Families | Senior Advisor | DH190105 | 04/12/2019
| Office of the Secretary | Deputy Scheduler Director of Scheduling | DH190110 DH190113 | 04/17/2019 04/30/2019
DEPARTMENT OF HOMELAND SECURITY | Office of Countering Weapons of Mass Destruction | Advisor Senior Advisor | DM190136 DM190135 | 04/04/2019 04/05/2019
| Office of the Executive Secretariat | Briefing Book Coordinator | DM190143 | 04/10/2019
| Office of Assistant Secretary for Legislative Affairs | Executive Secretariat and Administrative Officer | DM190138 | 04/17/2019
DEPARTMENT OF HOUSING AND URBAN DEVELOPMENT | Office of Congressional and Intergovernmental Relations | Senior Advisor | DU190053 | 04/04/2019
| Office of Field Policy and Management | Advisor Regional Administrator | DU190056 DU190061 | 04/11/2019 04/17/2019
| Office of Public and Indian Housing | Policy Advisor Special Assistant | DU190054 DU190060 | 04/05/2019 04/24/2019
| Office of the Administration | Advance Coordinator | DU190062 | 04/17/2019
| Office of the Secretary | Special Assistant | DU190050 | 04/25/2019
DEPARTMENT OF THE INTERIOR | Office of the Assistant Secretary—Policy, Management and Budget | Special Assistant | DI190041 | 04/04/2019
| National Park Service | Assistant Director for Congressional Relations | DI190035 | 04/16/2019
| Bureau of Ocean Energy Management | Senior Advisor-Bureau of Ocean Energy Management | DI190038 | 04/17/2019
| Office of the Assistant Secretary—Water and Science | Senior Advisor | DI190047 | 04/17/2019
| Office of Congressional and Legislative Affairs | Special Assistant -Congressional and Legislative Affairs | DI190048 | 04/23/2019
| Office of the Assistant Secretary—Fish and Wildlife and Parks | Counselor-Fish and Wildlife and Parks | DI190052 | 04/24/2019
DEPARTMENT OF JUSTICE | Office of Civil Division | Senior Counsel Chief of Staff and Counsel | DJ190055 DJ190041 | 04/11/2019 04/11/2019
| Department of Justice | Chief of Staff and Counsel | DJ190080 | 04/24/2019
| Executive Office for United States Attorneys | Secretary | DJ190082 | 04/17/2019
| Office of Legislative Affairs | Legislative Advisor | DJ190048 | 04/11/2019
DEPARTMENT OF LABOR | Office of the Assistant Secretary for Policy | Policy Advisor | DL190047 | 04/09/2019
| Office of the Solicitor | Counsel | DL190052 | 04/12/2019
| Office of the Assistant Secretary for Policy | Special Assistant | DL190058 | 04/24/2019
NATIONAL AERONAUTICS AND SPACE ADMINISTRATION | Office of the Administrator | Video Production Advisor | NN190021 | 04/15/2019
OFFICE OF MANAGEMENT AND BUDGET | Office of Health Division | Confidential Assistant | BO190014 | 04/25/2019
OFFICE OF PERSONNEL MANAGEMENT | Office of Congressional, Legislative, and Intergovernmental Affairs | Congressional Relations Officer Legislative Analyst (2) | PM190011 PM190016 PM190025 | 04/04/2019 04/04/2019 04/17/2019
| President's Commission on White House Fellowships | Associate Director | PM190023 | 04/23/2019
OFFICE OF THE UNITED STATES TRADE REPRESENTATIVE | Office of Intergovernmental Affairs and Public Liaison | Deputy Assistant for Intergovernmental Affairs and Public Engagement | TN190003 | 04/05/2019
SECURITIES AND EXCHANGE COMMISSION | Office of the Chairman | Writer-Editor | SE190004 | 04/16/2019
DEPARTMENT OF STATE | Bureau of Legislative Affairs | Deputy Assistant Secretary for House Affairs | DS190049 | 04/10/2019
| Bureau of Overseas Buildings Operations | Senior Advisor | DS190071 | 04/11/2019
| Bureau of Public Affairs | Senior Advisor | DS190026 | 04/30/2019
| Office of Policy Planning | Special Assistant (3) | DS190045 | 04/09/2019
|  |  | DS190048 | 04/12/2019
|  |  | DS190056 | 04/17/2019
|  | Senior Advisor | DS190047 | 04/29/2019
| Office of the Chief of Protocol | Protocol Officer | DS190062 | 04/12/2019
| Office of the Under Secretary for Management | Deputy White House Liaison | DS190089 | 04/25/2019
TRADE AND DEVELOPMENT AGENCY | Office of the Director | Senior Advisor for Communications | TD190002 | 04/12/2019
DEPARTMENT OF TRANSPORTATION | Office of the Administrator Office of the Secretary | Director of Communications Special Assistant for Scheduling | DT190057 DT190067 | 04/12/2019 04/12/2019
| Office of Public Affairs | Media Affairs Coordinator | DT190081 | 04/25/2019
DEPARTMENT OF THE TREASURY | Secretary of the Treasury | Deputy Chief of Staff (2) | DY190047 DY190048 | 04/08/2019 04/08/2019
| Office of the Assistant Secretary for Terrorist Financing | Senior Counselor | DY190050 | 04/11/2019
| Office of the Assistant Secretary (Public Affairs) | Special Assistant for Public Affairs | DY190045 | 04/05/2019
|  | Special Assistant for Public Affairs | DY190053 | 04/23/2019
| Assistant Secretary (Legislative Affairs) | Senior Advisor | DY190056 | 04/24/2019

The following Schedule C appointing authorities were revoked during April 2019.

Agency name | Organization name | Position title | Request No. | Date vacated
DEPARTMENT OF AGRICULTURE | Farm Service Agency | State Executive Director—California | DA180062 | 04/06/2019
DEPARTMENT OF COMMERCE | Office of Executive Secretariat | Confidential Assistant | DC180136 | 04/13/2019
| Office of Public Affairs | Deputy Director of Public Affairs and Press Secretary | DC170066 | 04/13/2019
| Office of Advance, Scheduling and Protocol | Deputy Director of Protocol | DC170167 | 04/27/2019
OFFICE OF THE SECRETARY OF DEFENSE | Office of the Assistant Secretary of Defense (Legislative Affairs) | Director of Strategic Communications for Legislative Affairs | DD180067 | 04/13/2019
| Office of the Chief Management Officer | Special Assistant to the Chief Management Officer | DD180078 | 04/13/2019
| Washington Headquarters Services | Defense Fellow | DD190017 | 04/13/2019
DEPARTMENT OF THE ARMY | Office Assistant Secretary Army (Civil Works) | Special Assistant to the Deputy Assistant Secretary of the Army (Strategy and Acquisition Reform) | DW180031 | 04/27/2019
DEPARTMENT OF THE NAVY | Office of the Assistant Secretary of Navy (Energy, Installations, and Environment) | Special Assistant to the Assistant Secretary of the Navy (Energy, Installations and Environment) | DN170025 | 04/13/2019
DEPARTMENT OF EDUCATION | Office of Communications and Outreach | Special Assistant (2) | DB170099 DB190004 | 04/13/2019 04/13/2019
| Office of the Deputy Secretary | Special Assistant | DB190012 | 04/13/2019
DEPARTMENT OF HEALTH AND HUMAN SERVICES | Office of Food and Drug Administration | Director of Communication | DH190063 | 04/22/2019
| Office of the Secretary | Director of Scheduling | DH180100 | 04/27/2019
DEPARTMENT OF HOMELAND SECURITY | Office of the Chief of Staff | Director of Scheduling and Advance and Chief of Protocol | DM170170 | 04/13/2019
DEPARTMENT OF HOUSING AND URBAN DEVELOPMENT | Office of Field Policy Management | Regional Administrator | DU170177 | 04/12/2019
DEPARTMENT OF JUSTICE | Office of Legal Policy | Counsel | DJ170179 | 04/27/2019
| Department of Justice | Chief of Staff and Counsel | DJ180037 | 04/30/2019
DEPARTMENT OF THE TREASURY | Office of the Under Secretary for International Affairs | Special Assistant to the United States for International Affairs | DY180107 | 04/06/2019
| Office of Public Affairs | Press Secretary | DT180057 | 04/13/2019
| Office of the Secretary | Senior Advisor | DT190007 | 04/28/2019
ENVIRONMENTAL PROTECTION AGENCY | Region VIII—Denver, Colorado | Attorney-Advisor (General) | EP180070 | 04/27/2019
EXPORT-IMPORT BANK | Office of Congressional and Intergovernmental Affairs | Senior Vice President for Congressional and Intergovernmental Affairs | EB170020 | 04/13/2019
GENERAL SERVICES ADMINISTRATION | Office of the Administrator | Confidential Assistant | GS180023 | 04/27/2019
OCCUPATIONAL SAFETY AND HEALTH REVIEW COMMISSION | Office of Commissioners | Counsel Confidential Assistant | SH170001 SH170003 | 04/27/2019 04/27/2019
OFFICE OF PERSONNEL MANAGEMENT | President's Commission on White House Fellowships | Assistant Director for Operations and Recruitment | PM190018 | 04/27/2019
OFFICE OF SCIENCE AND TECHNOLOGY POLICY | Office of Science and Technology Policy | Assistant Director for Legislative Affairs | TS170006 | 04/13/2019
SMALL BUSINESS ADMINISTRATION | Office of Administration | Management Support Specialist Assistant to the Chief of Staff | SB180006 SB190001 | 04/13/2019 04/27/2019

Authority: 5 U.S.C. 3301 and 3302; E.O. 10577, 3 CFR, 1954-1958 Comp., p. 218.

Office of Personnel Management.
Alexys Stanley,
Regulatory Affairs Analyst.

[FR Doc. 2019-15504 Filed 7-19-19; 8:45 am]

BILLING CODE 6325-39-P